FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted February 1, 2019 thru February 28, 2019
02/04/2019
20190275 | G | The E.W. Scripps Company; EPI Group, LLC; The E.W. Scripps Company.
20190667 | G | RLC Industries Co.; Potlatch Deltic Corporation; RLC Industries Co.
20190694 | G | Christopher Grassi; Josue Christiano Gomes da Silva; Christopher Grassi.
20190707 | G | Atlantic Regional Federal Credit Union; York County Federal Credit Union; Atlantic Regional Federal Credit Union.
20190712 | G | Royal Dutch Shell plc; Landmark Industries; Royal Dutch Shell plc.
20190713 | G | Landmark Industries Holdings, Ltd.; Landmark Industries; Landmark Industries Holdings, Ltd.
20190714 | G | 3i Group plc; Elliott Springer; 3i Group plc.
20190715 | G | 3i Group plc; Kevin Schneider; 3i Group plc.
20190721 | G | ACI Group Holdings, Inc.; Sharpe Dry Goods Company, LLC; ACI Group Holdings, Inc.
20190730 | G | John Paulson; Centerbridge Capital Partners II, L.P.; John Paulson.
20190737 | G | SoftBank Vision Fund (AIV M1) L.P.; Automation Anywhere, Inc.; SoftBank Vision Fund (AIV M1) L.P.
20190741 | G | KeyCorp; Gary Lieberman; KeyCorp.
20190760 | G | Nordic Capital IX Beta, L.P.; Tulip Holding Limited; Nordic Capital IX Beta, L.P.
02/06/2019
20190673 | G | J.B. Hunt Transport Services, Inc.; Patrick Cory; J.B. Hunt Transport Services, Inc.
02/07/2019
20190720 | G | Henry Schein, Inc.; BW NAR AIV III, L.P.; Henry Schein, Inc.
02/08/2019
20190488 | G | Ari Ojalvo-Oner; 2288880 Ontario Limited; Ari Ojalvo-Oner.
20190561 | G | CONMED Corporation; Filtration Group Equity LLC; CONMED Corporation.
20190751 | G | The Baring Asia Private Equity Fund VI, L.P. 2; Pioneer Corporation; The Baring Asia Private Equity Fund VI, L.P. 2.
02/11/2019
20190750 | G | Reingold Geiger; Nemo Investor Aggregator, Ltd.; Reingold Geiger.
20190761 | G | Zebra Technologies Corporation; Water Street Healthcare Partners III, L.P.; Zebra Technologies Corporation.
20190762 | G | Michael Klein; Clarivate Analytics Plc; Michael Klein.
20190765 | G | ShawCor Ltd.; ZCL Composites Inc.; ShawCor Ltd.
20190768 | G | AE Industrial Partners Fund II, LP; OEP VI AIV Feeder (A), L.P.; AE Industrial Partners Fund II, LP.
20190770 | G | NGL Energy Partners LP; DCP Midstream Partners, LP; NGL Energy Partners LP.
20190779 | G | Starwood Energy Infrastructure Fund III U.S. Investor, L.P.; FirstEnergy Solutions Corp.; Starwood Energy Infrastructure Fund III U.S. Investor, L.P.
20190780 | G | Steel Dynamics, Inc.; United Steel Supply, LLC; Steel Dynamics, Inc.
20190787 | G | GTCR Fund XI/B LP; GTCR Fund XI/A LP; GTCR Fund XI/B LP.
20190789 | G | AIPCF VI Indirect Investor AIV LP; General Electric Company; AIPCF VI Indirect Investor AIV LP.
20190794 | G | Kirby Corporation; Arlen B. Cenac, Jr.; Kirby Corporation.
02/13/2019
20190742 | G | Elliott International Limited; Ebay Inc.; Elliott International Limited.
20190743 | G | Elliott Associates, L.P.; Ebay Inc.; Elliott Associates, L.P.
02/14/2019
20190738 | G | Huntington Ingalls Industries, Inc.; Fulcrum IT Holdings, LLC; Huntington Ingalls Industries, Inc.
20190793 | G | Tesla, Inc.; Maxwell Technologies , Inc.; Tesla, Inc.
02/15/2019
20190798 | G | Thoma Bravo Fund XII Global, L.P.; Rubicon Technology Partners (Cayman) L.P.; Thoma Bravo Fund XII Global, L.P.
20190800 | G | FIC DBR Co-Invest Feeder, L.P.; Denham Oil & Gas Fund LP; FIC DBR Co-Invest Feeder, L.P.
20190801 | G | AIF IX International Holdings, L.P. (Cayman); RPC Group Plc; AIF IX International Holdings, L.P. (Cayman).
20190803 | G | Tyler Technologies, Inc.; Arlington Capital Partners II, LP; Tyler Technologies, Inc.
20190804 | G | John Zimmer; Lyft, Inc.; John Zimmer.
20190805 | G | Logan Green; Lyft, Inc.; Logan Green.
20190817 | G | Chevron Corporation; Petroleo Brasileiro S.A.; Chevron Corporation.
20190826 | G | Mr. Renrong Yu; Beijing OmniVision Technologies, Co. Ltd.; Mr. Renrong Yu.
02/19/2019
20190764 | G | Canaccord Genuity Group Inc.; Columbia Care LLC; Canaccord Genuity Group Inc.
02/20/2019
20171983 | G | Fresenius Medical Care AG & Co. KGaA; NxStage Medical, Inc.; Fresenius Medical Care AG & Co. KGaA.
02/21/2019
20190748 | G | Novartis AG; Ionis Pharmaceuticals, Inc.; Novartis AG.
02/22/2019
20190775 | G | Uniti Group Inc.; R. Otto Maly; Uniti Group Inc.
20190796 | G | Aurobindo Pharma Limited; Spectrum Pharamaceuticals, Inc.; Aurobindo Pharma Limited.
20190799 | G | Sumner Redstone; Pluto Inc.; Sumner Redstone.
02/25/2019
20190797 | G | Starboard Value and Opportunity Fund Ltd.; Bristol-Myers Squibb Company; Starboard Value and Opportunity Fund Ltd.
20190824 | G | iAero Group Holdco LLC; New Swift Air Holdings, L.L.C.; iAero Group Holdco LLC.
20190827 | G | Johnson & Johnson; MeiraGTx Holdings plc; Johnson & Johnson.
02/26/2019
20190816 | G | Sequoia Capital Global Growth Fund III—Endurance Partners; Aurora Innovation, Inc.; Sequoia Capital Global Growth Fund III—Endurance Partners.
20190823 | G | Unite Parent Corp.; The Ultimate Software Group, Inc.; Unite Parent Corp.
20190837 | G | KKR Asian Fund II Japan AIV L.P.; Thermo Fisher Scientific Inc.; KKR Asian Fund II Japan AIV L.P.
20190840 | G | Wellspring Capital Partners VI, L.P.; BDCM Opportunity Fund II, L.P.; Wellspring Capital Partners VI, L.P.
20190842 | G | SoftBank Vision Fund (AIV M2) L.P.; Fair Financial Corp.; SoftBank Vision Fund (AIV M2) L.P.
20190844 | G | FLIR Systems, Inc.; Arlington Capital Partners III, L.P.; FLIR Systems, Inc.
20190850 | G | Bain Capital Fund XII, L.P.; Rangers Renal Holdings LP; Bain Capital Fund XII, L.P.
20190851 | G | Carousel Capital Partners V, L.P.; Sterling Group Partners III, L.P.; Carousel Capital Partners V, L.P.
20190852 | G | LightBay Investment Partners LP; Levine Leichtman Capital Partners V, L.P.; LightBay Investment Partners LP.
20190857 | G | One Rock Capital Partners II LP; Univar Inc.; One Rock Capital Partners II LP.
20190858 | G | SPC Investment Co., L.P.; Patricia Bragg; SPC Investment Co., L.P.
20190859 | G | PDS Parent, Inc.; Peachtree Parent, Inc.; PDS Parent, Inc.
20190862 | G | RoundTable Healthcare Partners IV, L.P.; Moberg Pharma AB (publ); RoundTable Healthcare Partners IV, L.P.
20190865 | G | Carlyle U.S. Equity Opportunity Fund II, L.P.; Cortec Group Fund V, L.P.; Carlyle U.S. Equity Opportunity Fund II, L.P.
20190867 | G | Gryphon Partners V, L.P.; LLR Equity Partners IV, L.P.; Gryphon Partners V, L.P.
02/28/2019
20190825 | G | Sentinel Capital Partners VI, L.P.; Benjamin Rutledge Wall II; Sentinel Capital Partners VI, L.P.
20190838 | G | SoftBank Vision Fund (AIV M1) L.P.; Guardant Health, Inc.; SoftBank Vision Fund (AIV M1) L.P.
20190854 | G | Carbonite, Inc.; TCV V, L.P.; Carbonite, Inc.

FOR FURTHER INFORMATION CONTACT: Theresa Kingsberry, Program Support Specialist, Federal Trade Commission Premerger Notification Office, Bureau of Competition, Room CC-5301, Washington, DC 20024, (202) 326-3100.

By direction of the Commission.
April J. Tabor,
Acting Secretary.

[FR Doc. 2019-08080 Filed 4-22-19; 8:45 am]

BILLING CODE 6750-01-P